DEPARTMENT OF ENERGY

Federal Energy Regulatory Commission

[Project No. 13-023]

Green Island Power Authority; Notice of Availability of Final Environmental Assessment

January 5, 2011.

In accordance with the National Environmental Policy Act of 1969 and the Federal Energy Regulatory Commission's regulations, 18 CFR part 380 (Order No. 486, 52 FR 47897), the Office of Energy Projects has reviewed the application for a new license for the 6.0-megawatt Green Island Hydroelectric Project, located on the Hudson River, in Albany County, New York, and has prepared a Final Environmental Assessment (FEA). In the FEA, Commission staff analyzes the potential environmental effects of relicensing the project and conclude that issuing a new license for the project, with appropriate environmental measures, would not constitute a major federal action significantly affecting the quality of the human environment.

A copy of the FEA is on file with the Commission and is available for public inspection. The FEA may also be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659. For further information, contact Tom Dean at (202) 502-6041.

Kimberly D. Bose,
Secretary.

[FR Doc. 2011-542 Filed 1-12-11; 8:45 am]

BILLING CODE 6717-01-P